DEPARTMENT OF COMMERCE

International Trade Administration

[A-570-849]

Affirmative Final Determination of Circumvention of the Antidumping Duty Order on Certain Cut-to-Length Carbon Steel Plate From the People's Republic of China

AGENCY: Import Administration, International Trade Administration, Department of Commerce.

SUMMARY: On October 20, 2008, the Department of Commerce (the Department) published in the Federal Register the initiation of an antidumping circumvention inquiry to determine if certain products produced by Tianjin Iron and Steel Co., Ltd. (Tianjin) and/or imported by Toyota Tsusho America, Inc. (Toyota Tsusho) constitute circumvention of the antidumping duty order on certain cut-to-length carbon steel plate from the People's Republic of China. See Certain Cut-to-Length Carbon Steel Plate from the People's Republic of China: Initiation of Antidumping Circumvention Inquiry, 73 FR 62250 (October 20, 2008). On July 14, 2009, the Department published its notice of affirmative preliminary determination of circumvention. See Affirmative Preliminary Determination of Circumvention of the Antidumping Duty Order on Certain Cut-to-Length Carbon Steel Plate from the People's Republic of China, 74 FR 33991 (July 14, 2009) (Preliminary Determination). We gave interested parties an opportunity to comment on the Preliminary Determination, and received no comments. Therefore, we continue to determine that imports of inquiry merchandise (as defined below) are circumventing the order on cut-to-length carbon steel plate from the People's Republic of China.

DATES: Effective Date: August 12, 2009.

FOR FURTHER INFORMATION CONTACT: Steve Bezirganian or Robert James, AD/CVD Operations, Office 7, Import Administration, International Trade Administration, U.S. Department of Commerce, 14th Street and Constitution Avenue, NW., Washington, DC 20230; telephone: (202) 482-1131 or (202) 482-0649, respectively.

SUPPLEMENTARY INFORMATION:

Background

On July 14, 2009, the Department published its notice of affirmative preliminary determination of circumvention. See Preliminary Determination. The Department preliminarily determined that inquiry merchandise (defined below) produced by Tianjin and/or imported by Toyota Tsusho was circumventing the antidumping duty order on certain cut-to-length carbon steel plate from the People's Republic of China. The Department also directed U.S. Customs and Border Protection (CBP) to suspend liquidation of entries of such merchandise and require case deposits on said entries. Id. In accordance with 19 CFR 351.225(f)(3), interested parties were invited to comment on the preliminary determination within 20 days of publication of the Preliminary Determination. Id. No parties submitted comments.

Scope of the Order

The product covered by the order is certain cut-to-length carbon steel plate from the People's Republic of China. Included in this description is hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in the order are flat-rolled products of nonrectangular cross-section where such cross-section is achieved subsequent to the rolling process (i.e., products which have been “worked after rolling”)—for example, products which have been bevelled or rounded at the edges. This merchandise is currently classified in the Harmonized Tariff Schedule of the United States (HTSUS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000. Although the HTSUS subheadings are provided for convenience and customs purposes, the written description of the scope of the order is dispositive. Specifically excluded from subject merchandise within the scope of the order is grade X-70 steel plate.

Merchandise Subject to the Minor Alterations Antidumping Circumvention Proceeding

The merchandise subject to this antidumping circumvention inquiry (inquiry merchandise) consists of all merchandise produced by Tianjin and/or imported by Toyota Tsusho containing 0.0008 percent or more boron, by weight, and otherwise meeting the requirements of the scope of the antidumping duty order as listed under the “Scope of the Order” section above, with the exception of merchandise meeting all of the following requirements: aluminum level of 0.02 percent or greater, by weight; a ratio of 3.4 to 1 or greater, by weight, of titanium to nitrogen; and a hardenability test (i.e., Jominy test) result indicating a boron factor of 1.8 or greater. This merchandise is currently classified in the HTSUS under item numbers 7225.40.3050, 7225.99.0090, 7226.91.5000, and 7226.99.0180. Although the HTSUS subheadings are provided for convenience and customs purposes, the written description of inquiry merchandise is dispositive.

Affirmative Final Determination of Circumvention

The Department conducted this circumvention inquiry in accordance with section 781(c) of the Tariff Act of 1930, as amended (the Act), which deals with minor alterations of merchandise. The Department noted in the Preliminary Determination the criteria typically used by the Department to make determinations in such inquiries (i.e., the overall physical characteristics of the merchandise, the expectations of the ultimate users, the use of the merchandise, the channels of marketing and the cost of any modification relative to the total value of the imported products). See Preliminary Determination at 33992.

As noted in the Preliminary Determination, Toyota Tsusho failed to respond to the Department's questionnaire, thus warranting a preliminary determination, pursuant to sections 776(a) and (b) of the Act, that imports from the People's Republic of China of inquiry merchandise imported by Toyota Tsusho, regardless of the producer or exporter of the merchandise, and otherwise meeting the description of in-scope merchandise, are within the class or kind of merchandise subject to the antidumping duty order on certain cut-to-length carbon steel plate from the People's Republic of China. See Preliminary Determination at 33993.

With respect to Tianjin, the Department analyzed the information provided by Tianjin in its questionnaire responses following the aforementioned criteria normally used in minor alteration circumvention inquiries, as well as an additional case-specific criterion (i.e., alteration of export tariff and VAT refund rates by the government of the People's Republic of China), and preliminarily determined that imports from the People's Republic of China of inquiry merchandise produced by Tianjin and otherwise meeting the description of in-scope merchandise are within the class or kind of merchandise subject to the antidumping duty order on certain cut-to-length carbon steel plate from the People's Republic of China. See Preliminary Determination at 33993.

Because no parties commented on the Department's preliminary determination, and no reasons exist to reverse that determination, the Department determines that inquiry merchandise produced by Tianjin and/or imported by Toyota Tsusho is within the class or kind of merchandise subject to the antidumping duty order on certain cut-to-length carbon steel plate from the People's Republic of China.

Continuation of Suspension of Liquidation

In accordance with 19 CFR 351.225(l)(3), we are directing CBP to continue to suspend liquidation of inquiry merchandise entered, or withdrawn from warehouse, for consumption on or after October 20, 2008, the date of the publication of the Initiation Notice. We will also instruct CBP to continue to require a cash deposit of estimated duties at the applicable rates for each unliquidated entry of the product entered, or withdrawn from warehouse, for consumption on or after October 20, 2008, the date of the publication of the Initiation Notice, in accordance with 19 CFR 351.225(l)(3).¹

¹ In the Preliminary Determination the Department inadvertently stated that the requirement of cash deposits applied for entries of the product entered, or withdrawn from warehouse, for consumption on or after October 10, 2008. However, the publication of the Preliminary Determination was on October 20, 2008, and that is the effective date for both suspension of liquidation and requirement of cash deposits for the merchandise in question.

Notice to Parties

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This affirmative final circumvention determination is published in accordance with section 781(b) of the Act and 19 CFR 351.225.

Dated: August 6, 2009.
Ronald K. Lorentzen,
Acting Assistant Secretary for Import Administration.

[FR Doc. E9-19339 Filed 8-11-09; 8:45 am]

BILLING CODE 3510-DS-P